DEPARTMENT OF ENERGY

Federal Energy Regulatory Commission

[Docket No. CP00-415-000]

Frontier Energy, L.L.C.; Notice of Application

August 2, 2000.

Take notice that on July 25, 2000, Frontier Energy, L.L.C. (Frontier Energy), c/o Sempra Energy, 555 West Fifth Street, Suite 1400, Los Angeles, California 90013-1011, filed in Docket No. CP00-415-000 an application pursuant to Sections 1(c) and 7(c) of the Natural Gas Act (NGA) and Section 284.224 of the Commission's regulations (18 CFR 284.224). Frontier Energy requested a finding that it is exempt from Commission jurisdiction pursuant to the “Hinshaw exemption,” and requested a blanket certificate of public convenience and necessity for authorization to transport natural gas in interstate commerce as though it were an intrastate pipeline as defined in Section 311 of the Natural Gas Policy Act. Frontier Energy also requested approval of rates for the services as set forth more fully in the application which is on file with the Commission and open to public inspection. The application may be viewed on the web at www.ferc.fed.us/online/rims.htm. Call (202) 208-2222 for assistance.

Frontier Energy is a local distribution company which has constructed facilities used for the transportation and sale of natural gas in the State of North Carolina. The North Carolina Utilities Commission regulates the rates (including rates for retail gas transportation), services, and facilities of Frontier Energy in the North Carolina service areas served by Frontier Energy.

Frontier Energy interconnects with the interstate pipeline facilities of Transcontinental Gas Pipe Line Corporation (Transco) within the State of North Carolina at a point approximately four miles southeast of Cooleemee, North Carolina, and transports gas from this point of interconnection through its facilities to deliver natural gas to customers within the State of North Carolina. Frontier Energy further states that all of the gas delivered by Frontier Energy to its customers is expected to be obtained from the interconnection with Transco and all of the gas so obtained is consumed within the State of North Carolina.

Any person desiring to be heard or to make any protest with reference to said application should on or before August 23, 2000, file with the Federal Energy Regulatory Commission, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Frontier Energy to appear or be represented at the hearing.

David P. Boergers,
Secretary.

[FR Doc. 00-19965 Filed 8-7-00; 8:45 am]

BILLING CODE 6717-01-M